FEDERAL COMMUNICATIONS COMMISSION

47 CFR Part 73

[DA 01-2103; MM Docket No. 01-224, RM-10101]

Radio Broadcasting Services; Shelbyville and La Vergne, TN

AGENCY: Federal Communications Commission.

ACTION: Proposed rule.

SUMMARY: The Commission requests comments on a petition filed by WYCQ, Inc. proposing the reallotment of Channel 275C1 from Shelbyville to La Vergne, Tennessee, and the modification of Station WZPC(FM)'s license accordingly. Channel 275C1 can be reallotted to La Vergne in compliance with the Commission's minimum distance separation requirements without the imposition of a site restriction at petitioner's presently licensed site. The coordinates for Channel 275C1 at La Vergne are 35-48-01 North Latitude and 86-37-17 West Longitude.

DATES: Comments must be filed on or before October 29, 2001, and reply comments on or before November 13, 2001.

ADDRESSES: Federal Communications Commission, Washington DC 20054. In addition to filing comments with the FCC, interested parties should serve the petitioner, or its counsel or consultant, as follows: Patricia M. Chuh, Pepper & Corazzini, L.L.P., 1776 K Street, NW, Suite 200, Washington, DC 20006 (Counsel for Petitioner).

FOR FURTHER INFORMATION CONTACT: Sharon P. McDonald, Mass Media Bureau, (202) 418-2180.

SUPPLEMENTARY INFORMATION: This is a synopsis of the Commission's Notice of Proposed Rule Making, MM Docket No. 01-224, adopted August 29, 2001, and released September 7, 2001. The full text of this Commission decision is available for inspection and copying during normal business hours in the FCC Reference Information Center (Room CY-A257), 445 12th Street, SW., Washington, DC. The complete text of this decision may also be purchased from the Commission's copy contractor, Qualex International, Portals II, 445 12th Street, SW, Room CY-B402, Washington, DC 20554.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—[RADIO BROADCAST SERVICES]

1. The authority citation for Part 73 continues to read as follows:

Authority: 47 U.S.C. 154, 303, 334 and 336.

§ 73.202 [Amended]

2. Section 73.202(b), the Table of FM Allotments under Tennessee, is amended by removing Shelbyville, Channel 275C1 and adding La Vergne, Channel 275C1.

Federal Communications Commission.
John A. Karousos,
Chief, Allocations Branch, Policy and Rules Division, Mass Media Bureau.

[FR Doc. 01-23183 Filed 9-17-01; 8:45 am]

BILLING CODE 6712-01-P